DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, MD 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on July 1, 2018, through July 31, 2018. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the Program.

Dated: August 16, 2018.
George Sigounas,
Administrator.

List of Petitions Filed

1. Gregory Jackson, Stevensville, Maryland, Court of Federal Claims No: 18-0949V

2. Debra D. Nicholson, West Baden, Indiana, Court of Federal Claims No: 18-0953V

3. Deborah Spivey, Carthage, Tennessee, Court of Federal Claims No: 18-0959V

4. Shauna Rhyne and Cody Rhyne on behalf of C. R., Grand Junction, Colorado, Court of Federal Claims No: 18-0961V

5. Chris Skye and Lesley Skye on behalf of D. S., Novato, California, Court of Federal Claims No: 18-0962V

6. Dorothy Garone, Columbia, South Carolina, Court of Federal Claims No: 18-0964V

7. Karen Quinn, Hines, Illinois, Court of Federal Claims No: 18-0965V

8. Anna Matriss, Grandview, Utah, Court of Federal Claims No: 18-0966V

9. Kim Ediss, Anaheim, California, Court of Federal Claims No: 18-0969V

10. Nora Dempsey, Boone, Texas, Court of Federal Claims No: 18-0970V

11. Diane Gearhart, Langhorne, Pennsylvania, Court of Federal Claims No: 18-0973V

12. Paula D. Tyson, Waycross, Georgia, Court of Federal Claims No: 18-0975V

13. Kayla Stradling, Idaho Falls, Idaho, Court of Federal Claims No: 18-0976V

14. Mary Lepper, Perrysburg, Ohio, Court of Federal Claims No: 18-0984V

15. Barbara Vincent-Howe, Phoenixville, Pennsylvania, Court of Federal Claims No: 18-0987V

16. Renee Knepp, Matthews, North Carolina, Court of Federal Claims No: 18-0989V

17. Kiley D. Lizama, San Diego, California, Court of Federal Claims No: 18-0990V

18. William Minsterman, Jr., Uniontown, Pennsylvania, Court of Federal Claims No: 18-0991V

19. Afshin Arian, Las Vegas, Nevada, Court of Federal Claims No: 18-0992V

20. Vanessa Muniz on behalf of M. M., Camp Pendleton, California, Court of Federal Claims No: 18-0994V

21. Lukas Bundonis, Washington, District of Columbia, Court of Federal Claims No: 18-0995V

22. Donald Winter, Deer Park, New York, Court of Federal Claims No: 18-0996V

23. Phuong Dung Thi Huynh, Clear Lake Shores, Texas, Court of Federal Claims No: 18-0997V

24. Stacy J. Perez, Sugarloaf, Pennsylvania, Court of Federal Claims No: 18-0999V

25. Donna Hines, Olive Branch, Mississippi, Court of Federal Claims No: 18-1000V

26. Merilynne Delio, Haslet, Texas, Court of Federal Claims No: 18-1001V

27. Walter Thornton, Holloman Air Force Base, New Mexico, Court of Federal Claims No: 18-1002V

28. Ernest Knapp, Vallejo, California, Court of Federal Claims No: 18-1003V

29. David Ramos, Rialto, California, Court of Federal Claims No: 18-1005V

30. Danessa Smith, Peekskill, New York, Court of Federal Claims No: 18-1008V

31. Bangalore Muniraju, Memphis, Tennessee, Court of Federal Claims No: 18-1010V

32. Glender Downer, Greenville, South Carolina, Court of Federal Claims No: 18-1011V

33. Ana Sanchez, San Antonio, Texas, Court of Federal Claims No: 18-1012V

34. Mendy Tatro, Pittsfield, Massachusetts, Court of Federal Claims No: 18-1013V

35. Licelot Mendoza, Brooklyn, New York, Court of Federal Claims No: 18-1014V

36. Jessica Brown, White Plains, New York, Court of Federal Claims No: 18-1015V

37. Lori Knudson, Chesterfield, Missouri, Court of Federal Claims No: 18-1016V

38. Stacy Ratzlaff, Newton, Kansas, Court of Federal Claims No: 18-1017V

39. Wayne Butler, Manassas, Virginia, Court of Federal Claims No: 18-1018V

40. Ashley Barnett, Houston, Texas, Court of Federal Claims No: 18-1019V

41. Jennifer Mann, Lovington, New Jersey, Court of Federal Claims No: 18-1020V

42. Sherri Christy, Encinitas, California, Court of Federal Claims No: 18-1021V

43. Martha Patricia Mendez, Webster, Texas, Court of Federal Claims No: 18-1022V

44. Christine Pappas, Haskell, New Jersey, Court of Federal Claims No: 18-1024V

45. Velma Redic, Las Vegas, Nevada, Court of Federal Claims No: 18-1026V.

46. Eric W. Goering, Trustee, Blue Ash, Ohio, Court of Federal Claims No: 18-1031V

47. Barbara Black, Culver City, California, Court of Federal Claims No: 18-1033V

48. Meredith Oliver, Lawrenceville, Georgia, Court of Federal Claims No: 18-1034V

49. Ronald D. Matestic, Mankato, Minnesota, Court of Federal Claims No: 18-1035V

50. Robert Woodman, Portland, Maine, Court of Federal Claims No: 18-1038V

51. Duane Verhasselt, Whitefish, Montana, Court of Federal Claims No: 18-1039V

52. Lory Mahan, Gardner, Massachusetts, Court of Federal Claims No: 18-1041V

53. Renee Handjis, King of Prussia, Pennsylvania, Court of Federal Claims No: 18-1044V

54. Daniel Johnson, West Columbia, South Carolina, Court of Federal Claims No: 18-1045V

55. Vickie Brashear, Mason, Ohio, Court of Federal Claims No: 18-1048V

56. Nacole Troupe-Roberts, Apex, North Carolina, Court of Federal Claims No: 18-1049V

57. Ramonita Estrella, Hazelton, Pennsylvania, Court of Federal Claims No: 18-1050V

58. Richard McConnell, Springfield, Illinois, Court of Federal Claims No: 18-1051V

59. Susan Cavallaro, Winston-Salem, North Carolina, Court of Federal Claims No: 18-1053V

60. Yvonne Wilson, Philadelphia, Pennsylvania, Court of Federal Claims No: 18-1054V

61. Jamie Burdick, DuBois, Pennsylvania, Court of Federal Claims No: 18-1056V

62. Alcida Ortiz, Brooklyn, New York, Court of Federal Claims No: 18-1057V

63. Devon Nicole Ingber, Panorama City, California, Court of Federal Claims No: 18-1061V

64. Rafael Francisco Ojeda Colon, San Juan, Puerto Rico, Court of Federal Claims No: 18-1065V

65. Nooshin Gastineau, Seattle, Washington, Court of Federal Claims No: 18-1066V

66. Salvatore R. Bombara, Dayville, Connecticut, Court of Federal Claims No: 18-1067V

67. Bridie Friel, Newtown Square, Pennsylvania, Court of Federal Claims No: 18-1071V

68. Michelle Johnson, Waukesha, Wisconsin, Court of Federal Claims No: 18-1072V

69. Christopher Brown, San Clemente, California, Court of Federal Claims No: 18-1074V

70. Marian J. Zielinski and Mathew E Zielinski on behalf of E. E. Z., Arlington Heights, Illinois, Court of Federal Claims No: 18-1075V

71. Terry Pedri, Roseville, California, Court of Federal Claims No: 18-1077V

72. Michal Aaronson, Phoenix, Arizona, Court of Federal Claims No: 18-1078V

73. Amanda Dallabetta, Greensburg, Pennsylvania, Court of Federal Claims No: 18-1079V

74. Lisa Anthony, Colorado Springs, Colorado, Court of Federal Claims No: 18-1080V

75. Amy Wood, Bandon, Oregon, Court of Federal Claims No: 18-1084V

76. Caitlin M. Doyle, Feasterville, Pennsylvania, Court of Federal Claims No: 18-1085V

77. Tammy DeBoer, Chicago, Illinois, Court of Federal Claims No: 18-1086V

78. Marin Tully, Covington, Louisiana, Court of Federal Claims No: 18-1087V

79. Yvonne Richert, Fairfield, California, Court of Federal Claims No: 18-1090V

80. Helen Briggs, Centre, Alabama, Court of Federal Claims No: 18-1091V

81. David Choi, St. Louis, Missouri, Court of Federal Claims No: 18-1095V

82. Richard LeAndro, Wellington, Florida, Court of Federal Claims No: 18-1097V

83. Deanna Gould, Troy, Michigan, Court of Federal Claims No: 18-1098V

84. Chiaquitta Purnell-Reid, Marietta, Georgia, Court of Federal Claims No: 18-1101V

85. Louie Worthy, Huntingtown, Maryland, Court of Federal Claims No: 18-1104V

86. James Mahoney, Esq., Los Angeles, California, Court of Federal Claims No: 18-1105V

87. Sarah L. Ickes, Burlington, North Carolina, Court of Federal Claims No: 18-1106V

88. Sharon Pickens, Mesquite, Texas, Court of Federal Claims No: 18-1107V

89. Patricia Raduziner, Northridge, California, Court of Federal Claims No: 18-1108V

90. John Veselovsky, Gardena, California, Court of Federal Claims No: 18-1109V

91. Salvador Monarrez, Bakersfield, California, Court of Federal Claims No: 18-1111V

92. Amanda Swint-Moore and Michael Moore on behalf of M. A. M., Wartburg, Tennessee, Court of Federal Claims No: 18-1112V

93. Sophia Peer, Brooklyn, New York, Court of Federal Claims No: 18-1114V

94. Heather Harvard, Clearwater, Florida, Court of Federal Claims No: 18-1120V

[FR Doc. 2018-18144 Filed 8-21-18; 8:45 am]

BILLING CODE 4165-15-P